SECURITIES AND EXCHANGE COMMISSION

Submission for OMB Review; Comment Request

Upon Written Request, Copies Available From: U.S. Securities and Exchange Commission, Office of Investor Education and Advocacy, Washington, DC 20549-0213.

Extension:

Rule 15Ba2-6T; SEC File No. S7-19-10, OMB Control No. 3235-0659.

Notice is hereby given that pursuant to the Paperwork Reduction Act of 1995 (“PRA”) (44 U.S.C. 3501 et seq.), the Securities and Exchange Commission (“Commission”) has submitted to the Office of Management and Budget (“OMB”) a request of extension of the previously approved collection of information provided for in Rule 15Ba2-6T—Temporary Registration as a Municipal Advisor; Required Amendments; and Withdrawal from Temporary Registration (17 CFR 240.15Ba2-6T), under the Securities Exchange Act of 1934 (15 U.S.C. 78a et seq.) (“Exchange Act”).

Paragraph (a) of Rule 15Ba2-6T requires municipal advisors, as defined in Section 15B(e)(4) of the Exchange Act (15 U.S.C. 78o-4(e)(4)), to electronically file with the Commission on the Commission's Web site at the following link, Municipal Advisor Registration, the information set forth in Form MA-T (17 CFR 249.1300T) to temporarily register or withdraw from temporary registration.

Paragraph (b)(1) of Rule 15Ba2-6T requires municipal advisors to promptly amend their temporary registration whenever information concerning Items 1 (Identifying Information) or 3 (Disciplinary Information) of Form MA-T becomes inaccurate in any way.

Paragraph (b)(2) of Rule 15Ba2-6T requires municipal advisors to promptly amend their temporary registration whenever they wish to withdraw from registration.

Paragraph (c) of Rule 15Ba2-6T provides that every initial registration, amendment to registration, or withdrawal from registration filed pursuant to this rule constitutes a “report” within the meaning of applicable provisions of the Exchange Act.

Paragraph (d) of Rule 15Ba2-6T provides that every Form MA-T, including every amendment to or withdrawal from registration, is considered filed with the Commission when the electronic form on the Commission's Web site is completed and the Commission has sent confirmation to the municipal advisor that the form was filed.

Paragraph (e) of Rule 15Ba2-6T provides that all temporary registrations of municipal advisors will expire on the earlier of: (1) The date that the municipal advisor's permanent registration, submitted pursuant to the Exchange Act and the rules thereunder, is approved or disapproved by the Commission; (2) the date on which the municipal advisor's temporary registration is rescinded by the Commission; (3) for a municipal advisor that has not applied for permanent registration with the Commission in accordance with the Exchange Act and the rules thereunder, forty-five days after the compliance date of such rules for the municipal advisor; or (4) December 31, 2014.

Paragraph (f) of Rule 15Ba2-6T provides that Rule 15Ba2-6T will expire on December 31, 2014.

The primary purpose of Rule 15Ba2-6T is to provide information about municipal advisors to investors and issuers, as well as the Commission pursuant to the Dodd-Frank Wall Street Reform and Consumer Protection Act.

Commission staff estimates that approximately 100 new municipal advisors will file Form MA-T during the period January 1, 2014 through December 31, 2014. Commission staff estimates that each of the approximately 100 new municipal advisors will spend an average of 2.5 hours preparing each Form MA-T. Therefore the estimated total reporting burden associated with completing Form MA-T is 250 hours. Additionally, Commission staff estimates that approximately 1,150 municipal advisors currently registered with the Commission and the estimated 100 new municipal advisors will amend (or withdraw) their Form MA-T once during the period from January 1, 2014 through December 31, 2014, and that it will take approximately 30 minutes to amend (or withdraw) their form, which means the total burden associated with amending Form MA-T is 625 hours. Therefore, the total annual burden associated with completing and amending Form MA-T is 875 hours.

The Commission believes that some municipal advisors will seek outside counsel to help them comply with the requirements of Rule 15Ba2-6T and Form MA-T, and assumes that 100 municipal advisors will consult outside counsel for one hour for this purpose. The hourly rate for an attorney is $379, according to the Securities Industry and Financial Markets Association's publication titled Management & Professional Earnings in the Securities Industry 2012, as modified by Commission staff to account for an 1,800-hour work year and multiplied by 5.35 to account for bonuses, firm size, employee benefits, and overhead. The Commission estimates the total cost for these 100 municipal advisors to hire outside counsel to review their compliance with the requirements of Rule 15Ba2-6T and Form MA-T to be approximately $37,900.

An agency may not conduct or sponsor, and a person is not required to respond to, a collection of information under the PRA unless it displays a currently valid OMB control number.

The public may view the background documentation for this information collection at the following Web site, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Thomas Bayer, Director/Chief Information Officer, Securities and Exchange Commission, c/o Remi Pavlik-Simon, 100 F Street NE, Washington, DC 20549, or by sending an email to: PRA_Mailbox@sec.gov. Comments must be submitted to OMB within 30 days of this notice.

Dated: February 18, 2014.
Kevin M. O'Neill,
Deputy Secretary.

[FR Doc. 2014-03784 Filed 2-21-14; 8:45 am]

BILLING CODE 8011-01-P